DEPARTMENT OF HEALTH AND HUMAN SERVICES

Administration for Children and Families

Grants Awarded: Program Titles and Funding Opportunity Announcements for Fiscal Year 2009

AGENCY: Division of Grants Policy, Office of Financial Services, Office of Administration, Administration for Children and Families (ACF), Department of Health and Human Services (DHHS).

ACTION: Notice.

SUMMARY: The Administration for Children and Families (ACF) hereby gives notice to the public that certain programs within the Agency will administratively impose a matching requirement on grants awarded under the following program titles and funding opportunity announcements for Fiscal Year 2009:

Program office | Funding opportunity No. | Funding opportunity title | Fiscal year | Program title | CFDA No. | Administrative match percentage | Composition of the administrative match
Administration for Children, Youth and Families—Children's Bureau | HHS-2009-ACF-ACYF-CA-0055 | Rigorous Evaluations of Existing Child Abuse Prevention, Family Support, Family Preservation, Family Reunification, and Adoption Promotion and Support Programs | 2009 | Community-Based Child Abuse Prevention Grants | 93.590 | 10 | Cash and In-Kind.
Administration for Children, Youth and Families—Children's Bureau | HHS-2009-ACF-ACYF-CB-0060 | Abandoned Infants Assistance Act: Comprehensive Support Services for Families Affected by Substance Abuse and/or HIV/AIDS | 2009 | Abandoned Infants | 93.551 | 10 | Cash and In-Kind.
Administration on Developmental Disabilities | HHS-2009-ACF-ADD-DN-0046 | Projects of National Significance: Family Support 360 Centers | 2009 | Developmental Disabilities Projects of National Significance | 93.631 | 25 | Cash and In-Kind.
Administration on Developmental Disabilities | HHS-2009-ACF-ADD-DN-0047 | Projects of National Significance: Family Support 360 Special Initiatives | 2009 | Developmental Disabilities Projects of National Significance | 93.631 | 25 | Cash and In-Kind.
Administration on Developmental Disabilities | HHS-2009-ACF-ADD-DN-0048 | Projects of National Significance: Family Support 360 for Military Families | 2009 | Developmental Disabilities Projects of National Significance | 93.631 | 25 | Cash and In-Kind.
Office of Community Services | HHS-2009-ACF-OCS-EJ-0009 | Compassion Capital Fund Intermediary Demonstration Program | 2009 | Compassion Capital Fund | 93.009 | 20 | Cash and In-Kind.
Office of Child Support Enforcement | HHS-2009-ACF-OCSE-FD-0013 | Section 1115 Demonstration 1 | 2009 | Child Support Enforcement Research | 93.564 | 5 | Cash is preferred and In-Kind resources from public entities only are accepted.
Office of Child Support Enforcement | HHS-2009-ACF-OCSE-FD-0017 | Section 1115 Demonstration 3 | 2009 | Child Support Enforcement Research | 93.564 | 5 | Cash is preferred and In-Kind resources from public entities only are accepted.
Office of Child Support Enforcement | HHS-2009-ACF-OCSE-FD-0019 | Section 1115 Demonstration 2 | 2009 | Child Support Enforcement Research | 93.564 | 5 | Cash is preferred and In-Kind resources from public entities only are accepted.
Office of Child Support Enforcement | HHS-2009-ACF-OCSE-FD-0052 | Section 1115 Demonstration 4 | 2009 | Child Support Enforcement Research | 93.564 | 5 | Cash is preferred and In-Kind resources from public entities only are accepted.
Office of Planning, Research and Evaluation | HHS-2009-ACF-OPRE-PD-0029 | TANF Research | 2009 | Social Services Research and Demonstration | 93.647 | 5 | Cash and In-Kind.

Historically, ACF has found that the imposition of a matching requirement on awards under these programs results in an increased level of community support and, often, a higher profile in the community. This can contribute to the success and sustainability of the project. The Fiscal Year 2009 funding opportunity announcements for each listed program will advise applicants on the percentage of funds that must be contributed through non-Federal resources, the composition of the match, and the merit of the match as a criterion in the competitive review. The administratively imposed matching requirement will apply only to new awards and their continuation awards, made under the Fiscal Year 2009 funding opportunity announcements listed in this notice. This Fiscal Year 2009 matching requirement does not represent an addition to the existing matching requirements on awards made under funding opportunity announcements issued in Fiscal Year 2008 or before. The amount and acceptable types of non-Federal resources allowed is not negotiable. However, matching may be provided as direct or indirect costs. The presence and composition of matching funds may be used as a criterion in evaluating the merits of an application during competitive review. Specific information related to the matching requirement and competitive review will be provided in each listed funding opportunity announcement. Unmatched Federal funds will be disallowed. Costs borne by matching contributions are subject to the regulations governing allowability found under 45 CFR 74.23 and 45 CFR 92.24.

The Department of Health and Human Services' Grants Forecast is a database of planned grant opportunities proposed by its various agencies. Each Forecast record contains actual or estimated dates and funding levels for grants that the agency intends to award during the fiscal year. Additional details about ACF planned FY2009 funding opportunity announcements can be found on the Grants Forecast Web site at https://extranet.acf.hhs.gov/hhsgrantsforecast/. Published ACF funding opportunity announcements are available on Grants.gov at http://www.grants.gov and the ACF Grant Opportunities Web page at http://www.acf.hhs.gov/grants/open.html.

FOR FURTHER INFORMATION CONTACT: Karen Shields, Grants Policy Specialist, Office of Administration, Division of Grants Policy, 370 L'Enfant Promenade, SW., 6th Floor East, Washington, DC 20447, or by telephone at 202-401-5112 or karen.shields@acf.hhs.gov.

Dated: November 5, 2008
Curtis L. Coy,
Deputy Assistant Secretary for Administration, Administration for Children and Families.

[FR Doc. E8-26889 Filed 11-12-08; 8:45 am]

BILLING CODE 4184-01-P